DEPARTMENT OF THE TREASURY

Bureau of Alcohol, Tobacco and Firearms

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau of Alcohol, Tobacco and Firearms within the Department of the Treasury is soliciting comments concerning the Application for a Permit As a Manufacturer of Tobacco Products or an Export Warehouse Proprietor, Application for a Amended Permit as a Manufacturer of Tobacco Products or an Export Warehouse Proprietor, Application for Permit Under 26 U.S.C. Chapter 52 Importer of Tobacco Products, and Application for an Amended Permit Under 26 U.S.C. Chapter 52, Importer of Tobacco Products.

DATES: Written comments should be received on or before July 29, 2002 to be assured of consideration.

ADDRESSES: Direct all written comments to Bureau of Alcohol, Tobacco and Firearms, Linda Barnes, 650 Massachusetts Avenue, NW., Washington, DC 20226, (202) 927-8930.

FOR FURTHER INFORMATION CONTACT: Requests for additional information or copies of the form(s) and instructions should be directed to Robert P. Ruhf, Regulations Division, 650 Massachusetts Avenue, NW., Washington, DC 20226, (202) 927-8210.

SUPPLEMENTARY INFORMATION: Title: Application for a Permit as a Manufacturer of Tobacco Products or an Export Warehouse Proprietor, Application for a Amended Permit as a Manufacturer of Tobacco Products or an Export Warehouse Proprietor, Application for Permit Under 26 U.S.C. Chapter 52 Importer of Tobacco Products, and Application for an Amended Permit Under 26 U.S.C. Chapter 52, Importer of Tobacco Products.

OMB Number: 1512-0398.

Form Number: ATF F 2093 (5200.3), ATF F 2098 (5200.16), ATF F 5230.4, and ATF F 5230.5.

Abstract: The forms are used by the tobacco industry members to obtain and amend permits necessary to engage in business as a manufacturer of tobacco products, importer of tobacco products, or proprietor of a export warehouse.

Current Actions: ATF F 2093 (5200.3) and ATF F 2098 (5200.16) have been revised. ATF modified these application forms on which applicants apply for a new or amended permit to manufacture tobacco products or to operate an export warehouse. The new revisions inform the applicant as to what documentation must be sent for ATF to make a decision regarding the permit. The revised instructions will reduce follow-up contact between applicants and ATF personnel. ATF has also reduced the amount of information required by the forms while still maintaining standards on qualifying applicants.

Type of Review: Revision.

Affected Public: Business or other for-profit, State, Local or Tribal Government.

Estimated Number of Respondents: 630.

Estimated Total Annual Burden Hours: 1,130.

Request for Comment

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: May 16, 2002.
William T. Earle,
Assistant Director (Management) CFO.

[FR Doc. 02-13213 Filed 5-24-02; 8:45 am]

BILLING CODE 4810-31-P